DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

The National Railroad Passenger Corporation (Amtrak)

[Waiver Petition Docket Number FRA-2006-25386]

Amtrak seeks a waiver of compliance from certain provisions of 49 CFR part 238, Passenger Equipment Safety Standards. Specifically, § 238.309(d)(2), which provide the clean, oil, test, and stencil (COT&S) requirements for air brake valves.

In the aftermath of the events surrounding Hurricane Katrina, the FRA identified a need to have passenger car equipment readily available for emergency evacuation purposes. Amtrak has responded by making 24 Amfleet I passenger cars, that have been identified and are currently in storage, available to support this effort. In order to expedite the return of this equipment for service by July 28, 2006, Amtrak requests relief from the COT&S requirements. The range of dates in which these cars last had a COT&S performed is October 2001 to July 2002. The regulation requires a COT&S every 1,476 days. Prior to being placed in-service, Amtrak will perform a single car air brake test on each car to ensure the integrity of the air brake system. Additionally, Amtrak will ensure the integrity of all safety critical systems, as outlined in § 238.303, § 238.305 and § 238.311.

FRA reserves the right to issue a temporary interim waiver if an emergency arises or other conditions warrant, before the comment period ends for this waiver request.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2006-25386) and must be submitted to the Docket Clerk, DOT Docket Management Facility, Room PL-401 (Plaza Level), 400 7th Street, SW., Washington, DC 20590. Communications received within 20 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000. (Volume 65, Number 70; Pages 19477-78). The Statement may also be found at http://dms.dot.gov.

Issued in Washington, DC, on July 14, 2006.
Grady C. Cothen, Jr.
Deputy Associate Administrator for Safety Standards and Program Development.

[FR Doc. E6-11475 Filed 7-19-06; 8:45 am]

BILLING CODE 4910-06-P